DEPARTMENT OF JUSTICE

Notice of Lodging of Consent Decree Under the Emergency Planning and Community Right-to-Know Act

In accordance with Departmental policy, 28 CFR 50.7, notice is hereby given that a proposed consent decree in the case of United States and Communities for a Better Environment v. Sorenson Engineering, Inc., Civil Action No. EDCV 96-444-RT (VAPx) (C.D. Cal.), was lodged with the United States District Court for the Central District of California on March 2, 2000.

The proposed consent decree resolves claims that the United States asserted against Sorenson Engineering, Inc. in a civil complaint in intervention filed concurrently with the lodging of the consent decree. The complaint in intervention alleges that Sorenson failed to timely submit a toxic chemical release form for nitric acid and phosphoric acid in each year from 1990 through 1995, in violation of the requirements of section 313 of the Emergency Planning and Community Right-to-know Act, 42 U.S.C. 11023.

The proposed consent decree requires defendant to pay a civil penalty of $32,500. In addition, defendant is required to undertake two supplemental environmental projects to reduce tetrachloroethylene (perchloroethylene) emissions and to eliminate hexavalent chromium emissions at defendant's facility in Yucaipa, California. Finally, defendant is required to pay $20,000 to Communities for a Better Environment (CBE) in payment of CBE's attorney's fees and costs in this action.

The Department of Justice will accept comments relating to this consent decree for a period of thirty (30) days from the date of this publication. Address your comments to the Assistant Attorney General for the Environment and Natural Resources Division, Department of Justice, Washington, DC 20530, and send a copy to the Environmental Enforcement Section, U.S. Department of Justice, 301 Howard Street, Suite 870, San Francisco, CA 94105, Attn: Robert Mullaney. Your comments should refer to United States and Communities for a Better Environment v. Sorenson Engineering, Inc., Civil Action No. EDCV 96-444-RT (VAPx) (C.D. Cal.), and DOJ No. 90-11-2-06467.

You may examine the proposed consent decree at the office of the United States Attorney, Central District of California, Federal Building, Room 7516, 300 North Los Angeles Street, Los Angeles, California 90012. You may also obtain a copy of the consent decree by mail from the Consent Decree Library, P.O. Box 7611, Washington, DC 20044. Your request for a copy of the consent decree should refer to United States and Communities for a Better Environment v. Sorenson Engineering, Inc., Civil Action No. EDCV 96-444-RT (VAPx) (D.C. Cal.), and DOJ No. 90-11-2-06467, and must include a check for $4.50 (25 cents per page reproduction cost) payable to the “Consent Decree Library.”

Joel Gross,
Chief, Environmental Enforcement Section, Environment and Natural Resources Division.

[FR Doc. 00-7296 Filed 3-23-00; 8:45 am]

BILLING CODE 4410-15-M